DEPARTMENT OF JUSTICE

Antitrust Division

Notice Pursuant to the National Cooperative Research and Production Act of 1993—Investigation of Soot Removal Testing Methods for Automotive Applications

Notice is hereby given that, on September 23, 2002, pursuant to section 6(a) of the National Cooperative Research and Production Act of 1993, 15 U.S.C. 4301 et seq. (“the Act”), Southwest Research Institute (“SwRI”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Baldwin Filters, Kearney, NE; Caterpillar, Inc., Mossville, IL; Champion Laboratories, Inc., West Salem, IL; Dana Corporation/Wix Filtration, Gastonia, NC; Donaldson Company, Inc., Minneapolis, MN; Filterwerk Mann+Hummel GmbH, Ludwigsbury, Germany; and Honeywell, Perrysburg, OH. The nature and objectives of the venture is to define soot removal test method(s), test contaminant, and analytical methods. The program will also refine an existing technique for producing synthetic soot, determine repeatability of synthetic soot generation, and define and refine soot removal testing method design and methodology.

Membership in this research group remains open, and the participants intend to file additional written notification disclosing all changes in membership or planned activities.

Constance K. Robinson,
Director of Operations, Antitrust Division.

[FR Doc. 02-28140 Filed 11-5-02; 8:45 am]

BILLING CODE 4410-11-M